DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 29472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) ♢Elevation in feet (NAVD) | Communities affected
Faulkner County, Arkansas and Incorporated Areas (FEMA Docket No. P-7689)
Gold Creek (South):
Approximately 1,050 feet downstream of Sturges Road | ♢273 | City of Conway.
Approximately 2,700 feet upstream of Wasson Road | ♢323 |
Middle Fork Cypress Bayou:
At the confluence with Cypress Bayou | ♢288 | City of Vilonia Faulkner County (Unincorprated Areas).
Approximately 440 feet upstream of Marshall Road | ♢319 |
North Fork Cypress Bayou:
At confluence with Cypress Bayou | ♢288 | City of Vilonia Faulkner County (Unincorpoated Areas).
Approximately 730 feet upstream of North Marshall Road | ♢329 |
Palarm Creek:
At State Highway 286 | ♢276 | Faulkner County (Unincorpoated Areas).
Approximately 4,180 feet upstream of State Highway 36 | ♢318 |
South Fork Cypress Bayou:
At confluence with Cypress Bayou | ♢288 | City of Vilonia Faulkner County (Unincorpoated Areas).
Approximately 115 feet upstream of Church Street | ♢320 |
Warren Creek:
At confluence with Palarm Creek | ♢276 | Faulkner County (Unincorpoated Areas).
Approximately 530 feet upstream of Lower Ridge Road | ♢312 |
ADDRESSES
City of Conway, Faulkner County, Arkansas:
Maps are available for inspection at the City of Conway, 100 East Robins, Conway, Arkansas.
Faulkner County (Unincorporated Areas):
Maps are available for inspection at Faulkner County Emergency Management, 801 Locust Street, Conway, Arkansas.
City of Vilonia, Faulkner County, Arkansas:
Maps are available for inspection at Vilonia City Hall, 1113 Main Street, Vilonia, Arkansas.

(Catalog of Federal Domestic Assistance No. 83.100, “Flood Insurance.”)
Dated: July 7, 2006.
David I. Maurstad,
Director, Mitigation Division, Federal Emergency Management Agency, Department of Homeland Security.

[FR Doc. E6-11393 Filed 7-18-06; 8:45 am]

BILLING CODE 9110-12-P